DEPARTMENT OF THE TREASURY

Internal Revenue Service

26 CFR Part 48

[REG-155087-05]

RIN 1545-BF17

Alcohol Fuel and Biodiesel; Renewable Diesel; Alternative Fuel; Diesel-Water Fuel Emulsion; Taxable Fuel Definitions; Excise Tax Returns; Correction

AGENCY: Internal Revenue Service (IRS), Treasury.

ACTION: Correction to notice of proposed rulemaking.

SUMMARY: This document contains a correction to a notice of proposed rulemaking (REG-155087-05) that was published in the Federal Register on Tuesday, July 29, 2008 (73 FR 43890) relating to credits and payments for alcohol mixtures, biodiesel mixtures, renewable diesel mixtures, alternative fuel mixtures, and alternative fuel sold for use or used as a fuel, as well as proposed regulations relating to the definition of gasoline and diesel fuel.

These regulations reflect changes made by the American Jobs Creation Act of 2004, the Energy Policy Act of 2005, the Safe, Accountable, Flexible, Efficient Transportation Equity Act: A Legacy for Users, and the Tax Technical Corrections Act of 2007. These regulations affect producers of alcohol, biodiesel, and renewable diesel; producers of alcohol, biodiesel, renewable diesel, and alternative fuel mixtures; sellers and users of alternative fuel; and certain persons liable for the tax on removals, entries, or sales of gasoline or diesel fuel.

FOR FURTHER INFORMATION CONTACT: Stephanie Bland, Taylor Cortright, or DeAnn Malone, (202) 622-3130 (not a toll-free number).

SUPPLEMENTARY INFORMATION:

Background

The correction notice that is the subject of this document is under section 4081 of the Internal Revenue Code.

Need for Correction

As published, the notice of proposed rulemaking (REG-155087-05) contains an error that may prove to be misleading and is in need of clarification.

Correction of Publication

Accordingly, the publication of the notice of proposed rulemaking (REG-155087-05), which was the subject of FR Doc. E8-17270, is corrected as follows:

§ 48.4081-1 [Corrected]

On page 43895, column 3, § 48.4081-1(b), line 5 of the column, the language “pursuant to section 211 of the Clear Air” is corrected to read “pursuant to section 211 of the Clean Air”.

LaNita Van Dyke,
Chief, Publications and Regulations Branch, Legal Processing Division, Associate Chief Counsel (Procedure and Administration).

[FR Doc. E8-19598 Filed 8-22-08; 8:45 am]

BILLING CODE 4830-01-P